DEPARTMENT OF ENERGY

Federal Energy Regulatory Commission

[Project No. 8864-016]

Calligan Hydro Inc.; Notice of Availability of Final Environmental Assessment

February 22, 2002.

In accordance with the National Environmental Policy Act of 1969 and the Federal Energy Regulatory Commission's (Commission) regulations, 18 CFR Part 380 (Order No. 486, 52 FR 47897), the Office of Energy Projects has reviewed the application for amendment of the license for the Calligan Creek Hydroelectric Project, located on Calligan Creek in King County, Washington, and has prepared a Final Environmental Assessment (FEA) for the project. No federal lands are affected by this project.

The FEA contains the staff's analysis of the potential environmental impacts of modifications to the project and concludes that amending the license for the project, with appropriate environmental protective measures, would not constitute a major federal action that would significantly affect the quality of the human environment.

The FEA is attached to a Commission order issued on February 21, 2002, for the above application. Copies of the FEA are available for review at the Commission's Public Reference Room, located at 888 First Street, N.E., Washington, DC 20426, or by calling (202) 208-1371. The FEA may also be viewed on the web at http://www.ferc.gov (call (202) 208-2222 for assistance).

For further information, contact Kenneth Hogan at (202) 208-0434.

Magalie R. Salas,
Secretary.

[FR Doc. 02-4759 Filed 2-27-02; 8:45 am]

BILLING CODE 6717-01-P